DEPARTMENT OF COMMERCE

Office of the Under Secretary for Economic Affairs

RIN 0691-XC111

American Workforce Policy Advisory Board; Meeting

AGENCY: Office of the Under Secretary for Economic Affairs, Department of Commerce.

ACTION: Notice of public meeting.

SUMMARY: The Office of the Under Secretary for Economic Affairs announces the fifth meeting of the American Workforce Policy Advisory Board (Advisory Board) for May 19, 2020, between 1 p.m. and 2 p.m. (EDT). The meeting will be conducted via teleconference; consistent with prior meetings, the public will be able to listen to the proceedings via teleconference. The Advisory Board will discuss workforce policy recommendations to encourage leaders in government, the private sector, and educational institutions to accelerate the re-employment of American workers and the Nation's economic recovery.

DATES: The Advisory Board will meet on May 19, 2020; the meeting will begin at 1 p.m. (EDT) and end at approximately 2 p.m. (EDT).

ADDRESSES: The meeting will be conducted virtually. The meeting is open to the public via audio conference technology. Audio instructions will be prominently posted on the Advisory Board homepage at: https://www.commerce.gov/americanworker/american-workforce-policy-advisory-board. Please note: The Advisory Board website will maintain the most current information on the meeting agenda, schedule, and location. These items may be updated without further notice in the Federal Register.

The public may also submit statements or questions via the Advisory Board email address, AmericanWorkforcePolicyAdvisoryBoard@doc.gov (please use the subject line “May 2020 Advisory Board Meeting Public Comment”), or by letter to Sabrina Montes, c/o Office of Under Secretary for Economic Affairs, Department of Commerce, 1401 Constitution Avenue NW, Washington, DC 20230. If you wish the Advisory Board to consider your statement or question during the meeting, we must receive your written statement or question no later than 5 p.m. (EDT) two business days prior to the meeting. We will provide all statements or questions received after the deadline to the members; however, they may not consider them during the meeting.

FOR FURTHER INFORMATION CONTACT: Sabrina Montes, c/o Office of Under Secretary for Economic Affairs, Department of Commerce, 1401 Constitution Avenue NW, Washington, DC 20230, (301) 278-9268, or sabrina.montes@bea.gov.

SUPPLEMENTARY INFORMATION: The Secretary of Commerce and the Advisor to the President overseeing the Office of Economic Initiatives serve as the co-chairs of the Advisory Board. In addition to the co-chairs, the Advisory Board comprises 25 members that represent various sectors of the economy. The Board advises the National Council for the American Worker.

Exceptional Circumstances: Pursuant to 41 CFR 102-3.150(b), the notice for this meeting is given less than 15 calendar days prior to the meeting due to the exceptional circumstances caused by the novel COVID-19 outbreak, resulting in the proclamation of a national emergency by the President on March 13, 2020. This quick turnaround meeting is necessary to enable the American Workforce Policy Advisory Board to leverage the experience and knowledge of the Board Members to provide immediate workforce policy recommendations to the President's National Council for the American Worker to accelerate the re-employment of American workers and the Nation's economic recovery.

Sabrina L. Montes,
Designated Federal Official, American Workforce Policy Advisory Board, Bureau of Economic Analysis.

[FR Doc. 2020-09863 Filed 5-7-20; 8:45 am]

BILLING CODE 3510-MN-P